NATIONAL FOUNDATION ON THE ARTS AND THE HUMANITIES

Institute of Museum and Library Services

Notice of Proposed Information Collection Request: Proposed New Initiative: Accelerating Promising Practices for Small Libraries (APPS-L)

AGENCY: Institute of Museum and Library Services, National Foundation on the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed.

By this notice, IMLS is soliciting comments concerning a plan to offer a new grant initiative targeted to the needs of small libraries nationwide, aligned to the updated IMLS Strategic Framework for 2018-2022. “Accelerating Promising Practice for Small Libraries (APPS-L)” would be a special initiative of the National Leadership Grants for Libraries Program.

A copy of the proposed information collection request can be obtained by contacting the individual listed below in the ADDRESSES section of this notice.

DATES: Written comments must be submitted to the office listed in the addressee section below on or before October 12, 2018.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Dr. Sandra Webb, Director, Office of Grants Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

FOR FURTHER INFORMATION CONTACT: Kelcy Shepherd, Associate Deputy Director for Discretionary Programs, Office of Library Services, Institute of Museum and Library Services, 955 L'Enfant Plaza North SW, Suite 4000, Washington, DC 20024-2135. She can be reached by Telephone: 202-653-4716 Fax: 202-653-4608, or by email at kshepherd@imls.gov, or by teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

The goal of IMLS' “Accelerating Promising Practice for Small Libraries (APPS-L)” would be to support projects that strengthen the ability of small libraries to serve their community. This initiative would specifically support small libraries by funding relevant activities in specific topical areas that are clearly linked to an individual institution's broader community needs. IMLS “Accelerating Promising Practice for Small Libraries (APPS-L) is being offered as a special initiative with funding from the National Leadership Grants for Libraries Program.

This action is to create the forms and instructions for the Notice of Funding Opportunity for the next three years.

Agency: Institute of Museum and Library Services.

Title: “Accelerating Promising Practice for Small Libraries (APPS-L)” Special Initiative.

OMB Number: 3137-TBD.

Frequency: Once a year.

Affected Public: Library staff.

Number of Respondents: 150.

Estimated Average Burden per Response: TBD.

Estimated Total Annual Burden: TBD.

Total Annualized Capital/Startup Costs: n/a.

Total Annual Costs: TBD.

Public Comments Invited: Comments submitted in response to this notice will be summarized and/or included in the request for OMB's clearance of this information collection.

Dated: August 10, 2018.
Kim Miller,
Grants Management Specialist, Institute of Museum and Library Services.

[FR Doc. 2018-17640 Filed 8-15-18; 8:45 am]

BILLING CODE 7036-01-P